DEPARTMENT OF TRANSPORTATION

National Highway Traffic Safety Administration

[Docket No. NHTSA-2015-0058]

Reports, Forms, and Recordkeeping Requirements

AGENCY: National Highway Traffic Safety Administration (NHTSA), Department of Transportation.

ACTION: Request for public comment on proposed collection of information.

SUMMARY: In compliance with the Paperwork Reduction Act of 1995 (44 U.S.C. 3501 et seq.), this notice announces that the Information Collection Request (ICR) abstracted below is being forwarded to the Office of Management and Budget (OMB) for review and comment.

DATES: Comments must be submitted on or before January 20, 2016.

ADDRESSES: Send comments to the Office of Management and Budget, Attention: Desk Officer for the Office of the Secretary of Transportation, 725 17th Street NW., Washington, DC 20503.

FOR FURTHER INFORMATION CONTACT: For additional information or access to background documents, contact Sean McLaurin, NVS-422, National Highway Traffic Safety Administration, Room W55-336, Department of Transportation, 1200 New Jersey Avenue SE., Washington, DC 20590. Mr. McLaurin's telephone number is (202) 366-4800. Please identify the relevant collection of information by referring to its OMB Control Number.

SUPPLEMENTARY INFORMATION: A Federal Register Notice with a 60-day comment period soliciting comments on the following information collection was published on September 2, 2015 (80 FR 53225). The agency received one comment that asked how this collection related to the agency's mission and expressed concern over the lifetime of digital information.

The NDR's Problem Driver Pointer System (PDPS) is a central repository of information that identifies individuals whose license to operate a motor vehicle has been denied, suspended or revoked for cause, or who have been convicted of certain serious traffic related violations. The information on the PDPS is reported to and maintained by the States who are responsible to review information from PDPS and to take adverse action as determined necessary against problem drivers. While NHTSA operates the system to provide the information to the States, the determination of whether or not to license an applicant driver remains the responsibility of a State using the system. Upon restoration of the driving privilege, the pointer records are removed by the State-of-Record.

Title: National Driver Register (NDR).

OMB Control Number: 2127-0001.

Type of Request: Extension of Clearance.

Abstract: The purpose of the NDR is to assist States and other authorized users in obtaining information about problem drivers. State motor vehicle agencies submit and use the information for driver licensing purposes. Other users obtain the information for transportation safety purposes.

Affected Public: State, Local, or Tribal Government.

Estimated Number of Respondents: The number of respondents is 51—the fifty States and the District of Columbia.

Estimated Total Annual Burden Hours: 2,847.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; and 49 CFR 1:48.

Terry Shelton,
Associate Administrator for the National Center for Statistics and Analysis.

[FR Doc. 2015-31937 Filed 12-18-15; 8:45 am]

BILLING CODE 4910-59-P